DEPARTMENT OF LABOR

Office of the Secretary

Submission for OMB Review; Comment Request

June 13, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or E-mail Howze-Marlene@dol.gov.

Comments should be sent to Office of Information and Regulatory Affairs, Attn: OMB Desk Officer for ESA, Office of Management Budget, Room 10235, Washington, DC 20503 ((202) 395-7316), with 30 days from the date of this publication in the Federal Register.

The OMB is particularly interested in comments which:

• Evaluate whether the proposed collection of information is necessary for the property performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: revision of a currently approved collection.

Agency: Employment Standards Administration (ESA).

Title: Applications for Authority to Employ Full-Time Students at Sub-minimum Wages in Retail or Service Establishments or Agriculture.

OMB Number: 1215-0032.

Affected Public: Business or other for-profit, farms, individuals or households; and not-for-profit institutions.

Frequency: Annually.

Number of Respondents: 350.

Number of Annual Responses: 350.

Estimated Time Per Response: 10 to 30 minutes.

Total Burden Hours: 69.

Total Annualized Capital/Startup Costs: $129.50.

Total Annual Costs (operating/maintaining systems or purchasing services): $0.

Description: Sections 14(b)(1) and 14(b)(2) of the Fair Labor Standards Act (FLSA) require the Secretary of Labor to provide certificates authorizing the employment of full-time students at 85% of the applicable minimum wage in retail or service establishments and in agriculture to the extent necessary in order to prevent curtailment of opportunities for employment. Sections 519.3, 519.4, and 519.6 of Regulations 29 CFR part 519, set forth the application requirements and terms and conditions for employment of full-time students at sub-minimum wages. The WH-200 and WH-202 are voluntary use forms that are prepared and signed by an authorized representative of the employer to employ full-time students at sub-minimum wage. This information is used to determine whether a retail or service or agricultural employer should be authorized to pay sub-minimum wages to full-time students pursuant to the provisions of section 14(b) of the FLSA. Without the application, employers could not obtain a certificate authorizing payment of full-time students at sub-minimum wages and job opportunities for such students would be reduced.

Type of Review: Extension of a currently approved collection.

Agency: Employment Standards Administration (ESA).

Title: Rehabilitation Plan and Award.

OMB Number: 1215-0067.

Affected Public: Business or other for-profit; and Individuals or households.

Frequency: On occasion.

Number of Respondents: 7,000.

Number of Annual Responses: 7,000.

Estimated Time Per Response: 30 minutes.

Total Burden Hours: 3,500.

Total Annualized Capital/Startup Costs: $0.

Total Annual Costs (operating/maintaining systems or purchasing services): $0.

Description: The Office of Woerkers' Compensation Program (OWC) administers the Longshore and Harbor Workers' Compensation Act (LHWCA) and the Federal Employees' Compensation Act (FECA). Section 8104(a) of the Federal Employees' Act provides that eligible workers are furnished vocational rehabilitation services. The costs of these services are paid from the Employees' Compensation Fund. Section 39(c) and (2) of the Longshore Act provide that eligible injured workers are to be assisted in obtaining the best rehabilitation services available and the fund provided in Section 44 is to be used where necessary rehabilitation services are not available otherwise. The OWCP-16 is the plan for rehabilitation services, submitted by the injured worker and vocational rehabilitation counselor, and OWCP' award of payment from funds provided for rehabilitation. If the OWCP-16 were not utilized, then OWCP would have to resort to unusual and time consuming methods to limit the types and amounts of funding available.

Type of Review: Extension of a currently approved collection.

Agency: Employment Standards Administration (ESA).

Title: Report of Changes That May Affect Your Black Lung Benefits.

OMB Number: 1215-0084.

Affected Public: Individuals or households.

Frequency: Biennially.

Number of Respondents: 25,000.

Number of Annual Responses: 1.

Estimated Time Per Response: 5 to 8 minutes.

Total Burden Hours: 2,208.

Total Annualized Capital/Startup Costs: $0.

Total Annual Costs (operating/maintaining systems or purchasing services): $0.

Description: The Federal Coal Mine Safety and Health Act of 1977, as amended, 30 U.S.C. 936, 30 U.S.C. 941, and 20 CFR 725.533(g) provides for the reporting of certain changes which may affect a coal miner beneficiary's black lung benefits. The CM-929 is designed for this use.

Once a miner or survivor is found eligible for benefits, the primary beneficiary is requested to report certain changes that may affect benefits. To ensure that there is a review and update of all Trust Fund cases and to help the beneficiary comply with the need to report certain changes, the CM-929 is sent to all Trust Fund primary beneficiaries. This information reduces the potential for overpayments and for underpayments to payees due to unreported changes in status.

Ira L. Mills,
Departmental Clearance Officer.

[FR Doc. 02-15557 Filed 6-19-02; 8:45 am]

BILLING CODE 4510-27-M